FEDERAL RETIREMENT THRIFT INVESTMENT BOARD

Notice of Board Meeting

DATES: March 22, 2022 at 10 a.m.

ADDRESSES: Telephonic. Dial-in (listen only) information: Number: 1- 202-599-1426, Code: 614 746 295#; or via web: https://teams.microsoft.com/l/meetup-join/19%3ameeting_ZWZmZDI2MGEtYjEwNi00MzczLWI5YTctODJmYTdjN2ZlYzZm%40thread.v2/0?context=%7b%22Tid%22%3a%223f6323b7-e3fd-4f35-b43d-1a7afae5910d%22%2c%22Oid%22%3a%227c8d802c-5559-41ed-9868-8bfad5d44af9%22%7d.

FOR FURTHER INFORMATION CONTACT: Kimberly Weaver, Director, Office of External Affairs, (202) 942-1640.

SUPPLEMENTARY INFORMATION: Board Meeting Agenda

Open Session

1. Approval of the February 23, 2022 Board Meeting Minutes

2. Monthly Reports

(a) Participant Activity Report

(b) Investment Performance

(c) Legislative Report

3. Quarterly Report

(d) Vendor Risk Management

4. Enterprise Risk Management Update

5. Internal Audit Update

6. Converge Update

Closed Session

7. Information covered under 5 U.S.C. 552b(c)(9)(B) and 552b(c)(10).

Authority: 5 U.S.C. 552b (e)(1).

Dated: March 9, 2022.
Dharmesh Vashee,
General Counsel, Federal Retirement Thrift Investment Board.

[FR Doc. 2022-05319 Filed 3-11-22; 8:45 am]

BILLING CODE P